SMALL BUSINESS ADMINISTRATION

Information Quality Guidelines; Correction

AGENCY: Small Business Administration.

ACTION: Notice; correction.

SUMMARY: The U.S. Small Business Administration (“SBA”) published in the Federal Register on June 4, 2002, a notice seeking public comments on its draft report (“Report”) concerning SBA's proposed information quality guidelines. The notice contained incorrect dates.

FOR FURTHER INFORMATION CONTACT: Chet Francis, Office of the Chief Information Officer, (202) 205-6289.

Corrections

In the Federal Register of June 4, 2002, in FR Doc. 02-13989, on page 38541, in the first column, correct:

1. The DATES section to read:

DATES: Comments must be received on or before July 5, 2002; and

2. The first date stated in the last paragraph in the Supplementary Information section, by correcting that paragraph to read: After consideration of public comments, SBA will make appropriate revisions to the draft Report and submit it to OMB for review by no later than August 1, 2002. Upon completion of OMB's review and finalization of the Report, SBA will make its final Report available to the public by no later than October 1, 2002.

Dated: June 11, 2002.
Lawrence E. Barrett,
Chief Information Officer.

[FR Doc. 02-15159 Filed 6-14-02; 8:45 am]

BILLING CODE 8025-01-P